DEPARTMENT OF THE INTERIOR

National Park Service

Meeting of the National Park of American Samoa Federal Advisory Commission

AGENCY: National Park Service, Interior.

ACTION: Notice of meeting.

Notice is given in accordance with the Federal Advisory Committee Act that a meeting of the National Park of American Samoa Federal Advisory Commission will be held from 10 a.m. to 12 p.m., Saturday, April 10, 2004, in the village of Olosega, Manua, American Samoa. The agenda for the meeting will include:

Roll call, welcome and introductions;

Superintendent report and discussion;

Other Board issues;

Public comments.

The meeting is open to the public and opportunity will be provided for public comments prior to closing the meeting. Minutes of the meeting will be available to the public after approval of the full Advisory Commission. For copies of the minutes, contact the National Park of American Samoa Superintendent at 011-684-633-7082 or e-mail NPSA_Superintendent@nps.gov.

Dated: March 22, 2004.
Bernard C. Fagan,
Deputy Chief, NPS Office of Policy and Regulations.

[FR Doc. 04-7137 Filed 3-30-04; 8:45 am]

BILLING CODE 4310-RT-P